DEPARTMENT OF THE INTERIOR

National Park Service

[2253-665]

Notice of Inventory Completion: U.S. Department of the Interior, Bureau of Reclamation, Pacific Northwest Region, Boise, ID

AGENCY: National Park Service, Interior.

ACTION: Notice.

SUMMARY: The U.S. Department of the Interior, Bureau of Reclamation, Pacific Northwest Region has completed an inventory of human remains and associated funerary objects, in consultation with the appropriate Indian tribe, and has determined that there is a cultural affiliation between the human remains and associated funerary objects and a present-day Indian tribe. Representatives of any Indian tribe that believes itself to be culturally affiliated with the human remains and associated funerary objects may contact the Bureau of Reclamation, Pacific Northwest Region. Repatriation of the human remains and associated funerary objects to the Indian tribe stated below may occur if no additional claimants come forward.

DATES: Representatives of any Indian tribe that believes it has a cultural affiliation with the human remains and associated funerary objects should contact the Bureau of Reclamation, Pacific Northwest Region at the address below by July 21, 2011.

ADDRESSES: Dr. Sean Hess, Archeologist, Grand Coulee Power Office, Bureau of Reclamation, PO Box 620, Grand Coulee, WA 99133, telephone (509) 633-9233.

SUPPLEMENTARY INFORMATION: Notice is here given in accordance with the Native American Graves Protection and Repatriation Act (NAGPRA), 25 U.S.C. 3003, of the completion of an inventory of human remains and associated funerary objects in the control of the U.S. Department of the Interior, Bureau of Reclamation, Pacific Northwest Region, Boise, ID, and in the physical custody of Central Washington University, Ellensburg, WA. The human remains and associated funerary objects were removed from lands within the boundaries of the Colville Indian Reservation, Okanogan County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by a Central Washington University physical anthropologist, under contract to the Bureau of Reclamation. The assessment included research to find the current locations of the human remains and associated funerary objects from 45OK7, so they could be returned to the Bureau of Reclamation's control and included in the inventory and repatriation. Consultation by Bureau of Reclamation, Pacific Northwest Region was done with the Confederated Tribes of the Colville Reservation, Washington.

History and Description of the Remains

In 1950, human remains representing a minimum of five individuals were recovered from archeological site 45OK7, on the east bank of the Columbia River, below the Grand Coulee Dam, in Okanogan County, WA, during archeological investigations conducted by the U.S. Army Corps of Engineers in association with construction of Chief Joseph Dam. The site is on Federal lands under the Bureau of Reclamation's jurisdiction that are within the boundaries of the Colville Indian Reservation. The archeological site consisted of three house pits and an undocumented number of grave pits, which had been previously disturbed by looters. The recovered archeological materials, including the human remains and associated funerary objects, were sent to the Washington State Museum, Seattle, WA (now the Thomas Burke Washington State Memorial Museum). No known individuals were identified. The 12 associated funerary objects are 1 lot of beads strung on twine, 1 mammal bone fragment, 1 individual bone bead, 2 mussel or clam shell beads, 1 fragment of rolled copper, 2 lots of items consisting of loose dentalia beads or fragments, 2 lots of dentalia beads strung on bark twine, 1 lot of fragments of rolled copper beads strung on bark twine, and 1 bone harpoon point.

During the years since recovery, the human remains from 45OK7 have been transferred between several museums and institutions, often with little documentation of the materials included in the transfer. In some instances, skeletal elements of the same individual were separated and sent to multiple locations. Between 1957 and sometime prior to 1966, the Burke Museum transferred the remains of two individuals from Pit 5 (identified as 5A and 5B) to the Western Washington University, Bellingham, WA. These individuals stayed at Western Washington University until October 2009, when they were transferred to Central Washington University as part of the NAGPRA inventory effort. In February 1974, the Burke Museum transferred four individuals, recovered from Pits 4, 5, and 6 (identified as 4, 5A, 5B, and 6), to Central Washington University. These four individuals have remained at Central Washington University. In March 1974, the Burke Museum transferred all remaining skeletal elements (4, 5A, 5B, and 6) to Seattle University, Seattle, WA. In January 1990, Seattle University transferred two skeletal elements from individual 5A to the Confederated Tribes of the Colville Reservation, Washington, where they were placed in the Colville Tribal Repository, in Nespelem, WA. In March 2006, the Confederated Tribes of the Colville Reservation, Washington, transferred temporary custody of this individual to Central Washington University in order to supplement the inventory of that individual's remains. Upon completion of the inventory, the two elements from individual 5A were returned to the Confederated Tribes of the Colville Reservation (they are presently at the Colville Tribal Repository). In December 1991, Seattle University transferred the other elements of individual 5A, as well as the skeletal elements they held from individuals 4, 5B, and 6, to an organization called Daybreak Star Indian Cultural Center. In June 1993, on behalf of Seattle University, the Daybreak Star Indian Cultural Center transferred the human remains in their possession back to the Burke Museum. In October 2006, the Burke Museum transferred all remains in their possession (i.e., the remains returned to them by Daybreak Star Indian Cultural Center) to Central Washington University in order to facilitate the Bureau of Reclamation's NAGPRA inventory effort. With the exception of the two elements from individual 5A that are at the Colville Tribal Repository, all known skeletal elements from the individuals recovered from 45OK7, as well as all the associated funerary objects recovered in 1950, are now at Central Washington University.

No physical description of the human remains was prepared at the time of recovery. Between 1950 and 1957, Roger Heglar, a University of Washington graduate student, analyzed the burials from 45OK7. That inventory documented the partial remains of four individuals in collections; the field records indicated the excavators, in 1950, had believed the remains of three individuals were recovered. A 1966 inventory by the Burke Museum also indentified four individuals. However, the current physical inventory completed by Central Washington University determined that the collection of skeletal elements previously identified as individual 5A actually included skeletal elements of two individuals. In conclusion, elements from five individuals (4, 5A, 5B individual 1, 5B individual 2, and 6) recovered from site 45OK7 are presently in collections.

Osteological evidence documented by the physical anthropologist, the archeological association of the materials with a prehistoric site, and the kinds of associated funerary objects recovered, indicate that the human remains described above are Native American. The geographic location of the site within the Plateau Culture Area, tribal oral tradition, and anthropological and historical research all indicate that site 45OK7 lies within an area occupied by the San Poil and Nespelem tribes or bands, who are members of and legally represented by the Confederated Tribes of the Colville Reservation, Washington. Moreover, site 45OK7 is situated within the exterior boundaries of the Colville Indian Reservation, WA.

Determinations Made by the Bureau of Reclamation, Pacific Northwest Region

Officials of the Bureau of Reclamation, Pacific Northwest Region have determined that:

• Pursuant to 25 U.S.C. 3001(9), the human remains described in this notice represent the physical remains of five individuals of Native American ancestry.

• Pursuant to 25 U.S.C. 3001(3)(A), the 12 objects described above are reasonably believed to have been placed with or near individual human remains at the time of death or later as part of the death rite or ceremony.

• Pursuant to 25 U.S.C. 3001(2), there is a relationship of shared group identity that can be reasonably traced between the Native American human remains and associated funerary objects and the Confederated Tribes of the Colville Reservation, Washington.

Additional Requestors and Disposition

Representatives of any other Indian tribe that believes itself to be culturally affiliated with the human remains and associated funerary objects should contact Dr. Sean Hess, Archeologist, Grand Coulee Power Office, Bureau of Reclamation, PO Box 620, Grand Coulee, WA 99133, telephone (509) 633-9233, before July 21, 2011. Repatriation of the human remains and associated funerary objects to the Confederated Tribes of the Colville Reservation, Washington, may proceed after that date if no additional claimants come forward.

The Bureau of Reclamation, Pacific Northwest Region is responsible for notifying the Confederated Tribes of the Colville Reservation, Washington, that this notice has been published.

Dated: June 15, 2011.
Sherry Hutt,
Manager, National NAGPRA Program.

[FR Doc. 2011-15433 Filed 6-20-11; 8:45 am]

BILLING CODE 4312-50-P